DEPARTMENT OF THE INTERIOR

Bureau of Land Management

[MT-020-1010-PO]

Notice To Close 2235 Acres of Public Land To Discharge of Firearms at the Glendive Short Pine OHV Area

AGENCY: Bureau of Land Management, Interior, Montana, Miles City Field Office.

ACTION: Notice to close 2235 acres of public land administered by the Bureau of Land Management in Dawson County, Montana to the discharge of firearms.

SUMMARY: Notice is hereby given that 2235 acres of public land is closed to the discharge of firearms for public safety concerns. The closed property is within the Glendive Short Pine OHV Management Area, which is located six and a half miles south of the town of Glendive, Montana by way of highway #335, commonly known as the Marsh Road. The specific land identified for closure includes:

T.14 N., R.55 E., P.M.M.,

sec 3: all: except E½SW¼ NE¼SW¼, SE¼NE¼ SW¼—west of highway #335;

sec 10: all;

sec 15: all;

sec 21: E½.

Closure signs will be posted at the major entry points and on a kiosk located in the parking area. Maps and closure information will be available from the Miles City Field Office.

DATES: This closure will commence immediately upon publication in the Federal Register.

FOR FURTHER INFORMATION CONTACT: David McIlnay, Field Manager, BLM, Miles City Field Office, 111 Garryowen Rd., Miles City, Mt. 59301 or call 406-233-2827.

SUPPLEMENTARY INFORMATION: This closure is necessary for the management of actions, activities, and safe public use on certain Federal lands which may have, or is having, adverse impacts on persons using said property. This closure notice will be in effect immediately. Increasing levels of use are creating conflict situations between different user groups. The identified land is currently being used for hiking, collecting, horseback riding, wildlife observation, seasonal hunting, off road riding, and discharge of firearms. Hikers, horseback riders, OHV riders, and other casual users can schedule their activities around published hunting seasons for personal safety but they are not able to avoid casual discharge of firearms. Existing landscape characteristics include moderate timber cover and rough badlands terrain which seriously reduces visibility and hence increases the safety concerns of recreation users with respect to those who visit the area for the discharge of firearms. To reduce this potential safety hazard, 2235 acres of public land within the area known as the Glendive Short Pine OHV Management Area will be closed to discharge of firearms. This area will remain open and available to hunting by licensed sportsmen during seasons administered by the Montana Department of Fish, Wildlife and Parks.

This closure only applies to those lands specifically identified in the summary section.

Closure: 1.0 Closure of certain public lands to discharge of firearms.

The following is prohibited: Discharge of firearms.

2.0 Exceptions:

This rule making does not apply to the hunting of lawful game by licensed sportsmen during seasons administered by the Montana Department of Fish, Wildlife and Parks. This rule making also does not apply to a small area designated as open to discharge of firearms.

The authority for this closure is found under section 303(a) of the Federal Land Policy and Management Act of 1976 (43 U.S.C. 1733(a) and 43 CFR 9268.3(d)(1)(i) and 43 CFR 8364.1(a). Violations of this regulation are punishable by a fine in accordance with the Sentencing Reform Act of 1984 (18 U.S.C. 3551 et seq.) and/or imprisonment not to exceed 12 months for each offense.

Dated: February 4, 2005.
David McIlnay,
Field Manager, MCFO.

[FR Doc. 05-2745 Filed 2-11-05; 8:45 am]

BILLING CODE 4310-$$-P